DEPARTMENT OF THE INTERIOR

Office of the Secretary

Bureau of Indian Affairs, Office of Special Trustee for American Indians, Office of Indian Trust Transition; Tribal Consultation on Indian Trust Asset Management

AGENCY: Office of the Secretary, Bureau of Indian Affairs, Office of the Special Trustee for American Indians, Office of Indian Trust Transition, Interior.

ACTION: Notice; correction.

SUMMARY: The Office of the Secretary, Bureau of Indian Affairs, Office of the Special Trustee for American Indians, and the Office of Indian Trust Transition gave public notice in the Federal Register of January 31, 2002, (67 FR 4703) of a tribal consultation meeting in Portland, Oregon, to be held on February 14, 2002. The time of the consultation meeting was in error. This action corrects that error.

FOR FURTHER INFORMATION CONTACT: Wayne R. Smith, Deputy Assistant Secretary—Indian Affairs, 1849 C Street, NW, MS 4240 MIB, Washington, DC 20240 (202/208-7163).

SUPPLEMENTARY INFORMATION: In the Federal Register document published on January 31, 2002, there was an error in the scheduled time of the consultation meeting. The Department is correcting the document as follows:

In notice document (Federal Register document 02-2303) make the following correction:

On page 4730, in the third column, 16 lines from the bottom of the column, the time for the consultation meeting should read “1:00 p.m.”

Dated: February 6, 2002.
J. Steven Griles,
Deputy Secretary.

[FR Doc. 02-3283 Filed 2-8-02; 8:45 am]

BILLING CODE 4310-02-M